DEPARTMENT OF HOUSING AND URBAN DEVELOPMENT

[Docket No. FR-5690-N-02]

Notice of Revised Information Collection for Public Comment; Public Housing Authority Executive Compensation Information

AGENCY: Office of the Assistant Secretary for Public and Indian Housing, HUD.

ACTION: Notice of Revised Information Collection.

SUMMARY: The revised information collection described below will be submitted to the Office of Management and Budget (OMB) for review, as required by the Paperwork Reduction Act. The Department is soliciting public comments on the subject proposal.

DATES: Comments Due Date: March 26, 2013.

ADDRESSES: Interested persons are invited to submit comments regarding this proposal. Comments should refer to the proposal by name/or OMB Control number and should be sent to: Colette Pollard, Departmental Reports Management Officer, QDAM, Department of Housing and Urban Development, 451 7th Street SW., Room 4160, Washington, DC 20410-5000; telephone 202-402-3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW. (L'Enfant Plaza, Room 2206), Washington, DC 20410; telephone 202-402-4109, (this is not a toll-free number).

SUPPLEMENTARY INFORMATION: The Department is submitting a revision to the proposed information collection to OMB for review, as required by the Paperwork Reduction Act of 1995 (44 U.S.C. chapter 35, as amended). This Notice is soliciting comments from members of the public and affected agencies concerning the revised collection of information to: (1) Evaluate whether the revisions are necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Public Housing Authority Executive Compensation Information.

OMB Control Number, if applicable: 2577-0272.

Description of the need for the information and proposed use: Pursuant to PIH Notice 2011-48, HUD has been collecting information on the compensation provided by public housing authorities (PHAs) to their five most highly compensated employees, similar to the information that non-profit organizations receiving federal tax exemptions are required to report to the IRS annually. Since PHAs receive significant direct federal funds, such compensation information has been collected by HUD to enhance oversight by HUD and by state and local authorities. After HUD began this information collection, Congress included a provision in its fiscal year 2012 appropriations legislation that placed a specific cap on the use of Section 8 and Section 9 funds to pay the salaries of PHA officials. To obtain information that will help HUD determine PHA compliance with this and future legislation, and to achieve the same overall objectives of the original information collection, HUD is revising the data collection instrument to collect information on base salary, and bonus and incentive compensation, and the extent to which such payments are made with federal funds.

Changes include obtaining data on total cash compensation paid for with Section 8 and Section 9 funds. The new elements replace several segments such as “Reportable Compensation from PHA and Related Organizations” and “Contributions to Employee Benefit Plans and Deferred Compensation from the PHA and Related Organizations”.

Agency form numbers, if applicable: HUD-52725.

Estimation of the total numbers of hours needed to prepare the information collection including number of respondents, frequency of response, and hours of response: The number of burden hours is 1372. The number of respondents is 4116, the number of responses is 4116, the frequency of response is annually, and the burden hour per response is 20 minutes.

Status of the proposed information collection: This is a revised collection.

Authority: The Paperwork Reduction Act of 1995, 44 U.S.C., Chapter 35, as amended.

Dated: January 18, 2013.
Merrie Nichols-Dixon,
Deputy Director, Office of Policy, Program and Legislative Initiatives.

[FR Doc. 2013-01558 Filed 1-24-13; 8:45 am]

BILLING CODE 4210-67-P